DEPARTMENT OF THE INTERIOR

Fish and Wildlife Service

[FWS-R8-ES-2018-N030; FXES11140800000-190-FF08EVEN00]

Habitat Conservation Plan for the California Tiger Salamander; Categorical Exclusion, Santa Barbara County, California

AGENCY: Fish and Wildlife Service, Interior.

ACTION: Notice of availability; request for comments.

SUMMARY: We, the U.S. Fish and Wildlife Service (Service), have received an application from Mr. Mario Martinez for an incidental take permit under the Endangered Species Act of 1973, as amended. The permit, if issued, would authorize take of the federally endangered California tiger salamander (Santa Barbara County distinct population segment) incidental to otherwise lawful activities associated with the applicant's draft habitat conservation plan. We invite public comment.

DATES: Written comments should be received on or before May 20, 2019.

ADDRESSES:

Obtaining Documents: You may download a copy of the draft habitat conservation plan and draft low-effect screening form and environmental action statement at http://www.fws.gov/ventura/, or you may request copies of the documents by U.S. mail (below) or by phone (see FOR FURTHER INFORMATION CONTACT).

Submitting Written Comments: Please send us your written comments using one of the following methods:

• U.S. Mail: Stephen P. Henry, Field Supervisor, Ventura Fish and Wildlife Office, U.S. Fish and Wildlife Service, 2493 Portola Road, Suite B, Ventura, CA 93003.

• Email: rachel_henry@fws.gov.

FOR FURTHER INFORMATION CONTACT: Rachel Henry, Fish and Wildlife Biologist, by phone at 805-677-3312, via the Federal Relay Service at 1-800-877-8339 for TTY assistance, or at the Ventura address (see ADDRESSES).

SUPPLEMENTARY INFORMATION: We have received an application for an incidental take permit pursuant to section 10(a)(1)(B) of the Endangered Species Act, as amended (ESA; 16 U.S.C. 1531 et seq.). The applicant has developed a draft habitat conservation plan (HCP) for the project that includes measures to mitigate and minimize impacts to the federally endangered Santa Barbara County distinct population segment (DPS) of the California tiger salamander (Ambystoma californiense). The permit would authorize take of the Santa Barbara County DPS of the California tiger salamander incidental to otherwise lawful activities associated with the 2650 East Clark Avenue HCP. We invite public comment on draft HCP, draft low-effect screening form, and environmental action statement.

Background

The Service listed the Santa Barbara County DPS of the California tiger salamander as endangered on September 21, 2000 (65 FR 57242). Section 9 of the ESA and its implementing regulations prohibit the take of fish or wildlife species listed as endangered or threatened. “Take” is defined under the ESA to include the following activities: “[T]o harass, harm, pursue, hunt, shoot, wound, kill, trap, capture, or collect, or to attempt to engage in any such conduct” (16 U.S.C. 1532); however, under section 10(a)(1)(B) of the ESA, we may issue permits to authorize incidental take of listed species. “Incidental take” is defined by the ESA as take that is incidental to, and not the purpose of, carrying out of an otherwise lawful activity. Regulations governing incidental take permits for threatened and endangered species are in the Code of Federal Regulations (CFR) at 50 CFR 17.32 and 17.22, respectively. Issuance of an incidental take permit also must not jeopardize the existence of federally listed fish, wildlife, or plant species. The permittees would receive assurances under our “No Surprises” regulations ((50 CFR 17.22(b)(5) and 17.32(b)(5)) regarding conservation activities for the Santa Barbara County DPS of the California tiger salamander.

Applicant's Proposed Activities

The applicant has applied for a permit for incidental take of the Santa Barbara County DPS of the California tiger salamander. Take is likely to occur in association with activities necessary to develop the covered lands that involves land-clearing, ripping, plowing, other soil cultivation techniques, and construction of structures and hardscape features. The covered area includes approximately 12 acres of suitable upland habitat for the California tiger salamander. The covered area has no designated critical habitat for the California tiger salamander. The HCP includes avoidance and minimization measures for the California tiger salamander and mitigation for unavoidable loss of suitable upland habitat through the funding of an appropriate mitigation project through a Service-approved third party mitigation and conservation account.

Our Preliminary Determination

The Service made a preliminary determination that issuance of the incidental take permit is neither a major Federal action that will significantly affect the quality of the human environment within the meaning of section 102(2)(C) of NEPA (42 U.S.C. 4321 et seq.), nor will it individually or cumulatively have more than a negligible effect on the Santa Barbara County DPS of the California tiger salamander. The Service considers the effects of the taking of the Santa Barbara County DPS of the California tiger salamander to be minor because the affected area is small and of low habitat quality. Therefore, based on this preliminary determination, the permit qualifies for a categorical exclusion under NEPA.

Public Comments

If you wish to comment on the permit application, draft HCP, and associated documents, you may submit comments by one of the methods in ADDRESSES.

Before including your address, phone number, email address, or other personal identifying information in your comment, you should be aware that your entire comment, including your personal identifying information, may be made publicly available at any time. While you can ask us in your comment to withhold your personal identifying information from public view, we cannot guarantee that we will be able to do so.

Authority

We provide this notice under section 10 of the ESA (16 U.S.C. 1531 et seq.) and NEPA regulations (40 CFR 1506.6).

Stephen Henry,
Field Supervisor, Ventura Fish and Wildlife Office, Ventura, California.

[FR Doc. 2019-07723 Filed 4-17-19; 8:45 am]

BILLING CODE 4333-15-P